NATIONAL SCIENCE FOUNDATION

Notice of Permit Modification Received Under the Antarctic Conservation Act of 1978

AGENCY: National Science Foundation.

ACTION: Notice of permit modification request received and permit issued.

SUMMARY: The National Science Foundation (NSF) is required to publish a notice of requests to modify permits issued to conduct activities regulated under the Antarctic Conservation Act of 1978. NSF has published regulations under the Antarctic Conservation Act in the Code of Federal Regulations. This is the required notice of a requested permit modification issued.

DATES: November 2, 2017-March 30, 2020.

FOR FURTHER INFORMATION CONTACT: Polly Penhale, ACA Permit Officer, Office of Polar Programs, National Science Foundation, 2415 Eisenhower Avenue, Alexandria, VA 22314; 703-292-7420; email: ACApermits@nsf.gov.

SUPPLEMENTARY INFORMATION: The National Science Foundation (NSF), as directed by the Antarctic Conservation Act of 1978 (Pub. L. 95-541, 45 CFR 671), as amended by the Antarctic Science, Tourism and Conservation Act of 1996, has developed regulations for the establishment of a permit system for various activities in Antarctica and designation of certain animals and certain geographic areas as requiring special protection.

Description of Permit Modification Requested

The Foundation issued a permit (ACA 2018-015) to Polar Latitudes Inc. on November 2, 2017. The issued permit allows the applicant to conduct waste management activities associated with coastal camping and operating remotely piloted aircraft systems (RPAS) In the Antarctic Peninsula region. Coastal overnight camping of no more than 30 campers and two expedition staff for a maximum of 10 hours ashore. Camping must be away from vegetated sites and at least 150 meters from wildlife concentrations or lakes, protected areas, historical sites, and scientific stations. The permit holder engages experienced pilots to fly small, battery-operated, remotely controlled quadcopter equipped with cameras to capture aerial footage for commercial and educational uses. The permit expires March 30, 2022. On September 4, 2018, Polar Latitudes provided NSF an update based on activities planned for the 2018-2019 field season. The activities were the same or similar as those detailed in the original permit. Hayley Shephard now holds the position of Director of Expedition Operations. On February 25, 2019, NSF issued a modification to allow waste management activities associated with whale tagging research aboard the MS ISLAND SKY, as part of an expedition within an expedition. On August 30, 2019, Polar Latitudes provided NSF with a permit modification request for activities planned for the 2019-2020 field season. The activities were the same or similar as those detailed in the original permit and previous modifications. On October 14, 2019, Polar Latitudes provided NSF an update on the support of whale tagging activities this season aboard the MC HEBREDIAN SKY in March 2020. On August 22, 2021, Polar Latitudes provided NSF with an update based on activities planned for the 2021-2022 field season which included slight changes in operation. For the 2021-2022 season, Polar Latitudes plans to operate the MS SEAVENTURE, which will carry 149 passengers and 15-20 expedition staff. Polar Latitudes requested that the number of individuals permitted for coastal camping activities be increased from 30 participants to 40 participants and four expedition guides, with increased equipment brought onshore to support a larger group. Polar Latitudes also updated their UAS policies, which are still in accordance with standards put forth by IATTO and the ATCM. The Environmental Officer has reviewed the modification request and has determined that the amendment is not a material change to the permit, and it will have a less than a minor or transitory impact.

The permit modification was issued on October 5, 2021.

Erika N. Davis,
Program Specialist, Office of Polar Programs.

[FR Doc. 2021-22206 Filed 10-21-21; 8:45 am]

BILLING CODE 7555-01-P